NATIONAL ARCHIVES AND RECORDS ADMINISTRATION

[NARA-2023-038]

Freedom of Information Act (FOIA) Advisory Committee Meeting

AGENCY: Office of Government Information Services (OGIS), National Archives and Records Administration (NARA).

ACTION: Notice of Federal advisory committee meeting.

SUMMARY: We are announcing an upcoming Freedom of Information Act (FOIA) Advisory Committee meeting in accordance with the Federal Advisory Committee Act and the second United States Open Government National Action Plan.

DATES: The meeting will be on September 7, 2023, from 10 a.m. to 1:00 p.m. EDT. You must register by 11:59 p.m. EDT September 5, 2023, to attend.

ADDRESSES: This meeting will be a virtual meeting. We will send access instructions for the meeting to those who register according to the instructions below.

FOR FURTHER INFORMATION CONTACT: Kirsten Mitchell, Designated Federal Officer for this committee, by email at foia-advisory-committee@nara.gov, or by telephone at 202.741.5770.

SUPPLEMENTARY INFORMATION:

Agendas and meeting materials: We will post all meeting materials, including the agenda, at https://www.archives.gov/ogis/foia-advisory-committee/2022-2024-term.

This meeting will be the sixth of the 2022-2024 committee term. The purpose of the meeting will be to hear about efforts at the State Department to use machine learning for document searches and reviews, and to hear reports from each of the three subcommittees: Implementation, Modernization, and Resources.

Procedures: This virtual meeting is open to the public in accordance with the Federal Advisory Committee Act (5 U.S.C. app. 2). If you wish to offer oral public comments during the public comments periods of the meetings, you must register in advance through Eventbrite https://foia-advisory-committee-mtg-sept-7.eventbrite.com. You must provide an email address so that we can provide you with information to access the meeting online. Public comments will be limited to three minutes per individual. We will also live-stream the meeting on the National Archives YouTube channel, https://www.youtube.com/user/usnationalarchives, and include a captioning option. To request additional accommodations (e.g., a transcript), email foia-advisory-committee@nara.gov or call 202.741.5770. Members of the media who wish to register, those who are unable to register online, and those who require special accommodations, should contact Kirsten Mitchell (contact information listed above).

Tasha Ford,
Committee Management Officer.

[FR Doc. 2023-18228 Filed 8-23-23; 8:45 am]

BILLING CODE 7515-01-P